DEPARTMENT OF HEALTH AND HUMAN SERVICES

HHS Managing Partner Grants.gov E-Government Initiative; Governmentwide Notice of Opportunity to Register Early for Electronic Submission of Grant Applications for Federal Funding Opportunities; Early Registration With Grants.gov

AGENCY: Grants.gov Program Management Office; HHS Managing Agency; Office of Assistant Secretary for Budget, Technology and Finance for the Grants Executive Board, HHS.

ACTION: Notice.

SUMMARY: Federal grant applicants must complete a three-step registration process before applying for a federal grant opportunity through Grants.gov. Grants.gov is the federal government's free, single, and secure site for finding and submitting applications electronically for federal grant funding. It is part of the ongoing implementation of Electronic Government (E-Government) and a key component of the President's Management Agenda. Expanding electronic government makes it simpler for the public to receive high-quality services from the federal government in addition to improving the federal government's efficiency in the delivery of its services. To protect the applicant and the applicant's information, and to assure federal agencies that they are interacting with officials authorized to submit applications for funding on behalf of applicant entities, an applicant must register with Grants.gov.

In fiscal year 2005, 20 out of 26 federal grant making departments and agencies achieved their goals, set through OMB guidance, of making 25 percent of their discretionary funding opportunities available for the electronic submission of applications on Grants.gov and over 15,000 applications were received. Per OMB milestones, in fiscal year 2006 the percentage of discretionary funding opportunities available for electronic submission will increase to 75 percent and then to 100 percent in fiscal year 2007. This planned increase in utilization of the Grants.gov system is indicative of a governmentwide transition to electronic grant processes.

The twenty-six federal grant making departments and agencies participating in Grants.gov are: The Departments of Health and Human Services, Housing and Urban Development, Transportation, Education, Agriculture, Justice, Labor, Homeland Security, Defense, Commerce, Veterans Affairs, State, Treasury, Interior, and Energy, and the National Science Foundation, Environmental Protection Agency, National Aeronautics and Space Administration, National Endowment of the Arts, National Endowment of Humanities, Corporation for National & Community Service, U.S. Agency for International Development, National Archives and Records Administration, Small Business Administration, Institute of Museum and Library Services, and Social Security Administration.

Each of the federal grant-making departments and agencies listed above are posting funding opportunities and grant application materials on Grants.gov. To facilitate the federal grant application process, this notice encourages prospective applicants to register early. Registering in advance of agencies posting their grant opportunities will eliminate many of the issues that applicants have faced by not meeting registration requirements in time to meet application deadlines. Registering early will allow the Federal agencies and Grants.gov sufficient time to address questions applicants may have in completing the registration process.

I. The Need To Register With Grants.gov

Before applying for a grant opportunity on Grants.gov, an applicant must complete the registration process. Registration protects both the applicant and the federal agencies against fraudulent activities. Registration confirms that the applicant has designated a certain individual or entity to submit an application on behalf of the applicant and assures the federal agency that it is interacting with the designated representative of the applicant.

II. What Is Involved in Registration?

Before applying for a grant opportunity on Grants.gov, an applicant must complete the registration process. Registration protects both the applicant and the federal agencies against fraudulent activities. Registration confirms that the applicant has designated a certain individual or entity to submit an application on behalf of the applicant and assures the federal agency that it is interacting with the designated representative of the applicant.

Registration is a three-step process:

1. Register your organization.

2. Register yourself as an Authorized Organization Representative.

3. Become authorized by your organization to submit applications.

1. Register Your Organization. Before you can apply for a grant via Grants.gov your organization must register with the Central Contractor Registry (CCR), which requires a Data Universal Number System (DUNS) number. A DUNS number is a unique number that identifies an organization and has been adopted by the Federal Government. The CCR is the central government repository for organizations working with the Federal government. The CCR collects, validates, stores and disseminates data in support of agency acquisitions. For grants, CCR stores an applicant's information, allowing Grants.gov to verify an organization's identity and identify key business contacts for the organization. An organization will be required to provide a DUNS number, an E-Business point-of-contact (POC) and a Marketing Partner ID Number (MPIN) when registering with CCR. Please note that CCR recently began validating the tax identification number with IRS/Department of Treasury, which delays the activation of the registration by approximately 24-48 hours. Active CCR registrations and changes to registration information are passed to Grants.gov on a daily basis. A yearly validation of the CCR information is required to maintain an active registration.

• CCR Registration Assistance: 1-888-227-2423 (http://www.ccr.gov).

2. Register as an Authorized Organization Representative (AOR). An AOR is a person named by an organization to submit an application for funding consideration on behalf of the organization. In order to safeguard the security of your electronic information and to submit a Federal grant application via Grants.gov, an AOR must first obtain a Username and Password from Grants.gov. The organizational DUNS number will be needed to access the registration form, http://grants.gov/Register1. Completion of the registration form will provide a Grants.gov Username and Password. The AOR's must then register the Username and Password with Grants.gov, http://grants.gov/Register2.

3. Organization Authorizes Submitter (AOR). Grants.gov will send the organization's CCR E-Business point-of-contact (POC) an e-mail notifying them that someone from their organization has registered with Grants.gov and needs to be authorized as an AOR. The E-Business POC must log into Grants.gov, using their organization DUNS # and MPIN and authorize the AOR to submit an application via Grants.gov. The registration process is complete once the AOR has been authorized.

III. Time Allotted for Registration

Based on Grants.gov applicant feedback, it usually takes 3-5 days to complete registration with Grants.gov. Registrants should be aware that portions of the Grants.gov registration process leverage other governmentwide databases such as CCR. Some organizations have found it can take up to 2 weeks to complete the registration process when unexpected delays are encountered during the CCR registration process.

FOR FURTHER INFORMATION CONTACT: The Grants.gov Web site provides detailed registration checklists that guide users through the registration process. The checklists are available through the “Get Started” link on the Grants.gov Web site (http://www.grants.gov). Questions may also be referred to the Grants.gov Contact Center at 1-800-518-4726 or by e-mail at support@Grants.gov. A Webcast has been scheduled for the end of January 2006 specifically to cover the Grants.gov registration process. Interested organizations may sign-up for the Webcast at the Grants.gov Web site (http://www.grants.gov).

Dated: January 10, 2006.
Charles E. Johnson,
Assistant Secretary for Budget, Technology and Finance.

[FR Doc. E6-396 Filed 1-13-06; 8:45 am]

BILLING CODE 4150-24-P